DEPARTMENT OF THE INTERIOR

Bureau of Land Management

[WY-100-05-1310-DB]

Notice of the Pinedale Anticline Working Group Meeting

AGENCY: Bureau of Land Management, Interior.

ACTION: Notice of public meeting.

SUMMARY: In accordance with the Federal Land Policy and Management Act (1976) and the Federal Advisory Committee Act (1972), the U.S. Department of the Interior, Bureau of Land Management (BLM) Pinedale Anticline Working Group (PAWG) will meet in Pinedale, Wyoming, for business meetings. Group meetings are open to the public.

DATES: Eleven meeting dates have been set for the following dates: 12-5 December 18, 2006. 9-5 January 25, 8-12 January 26, 2007. 12-5 February 22, 2007. 12-5 March 22, 2007. 12-5 April 26, 2007. 12-5 May 24, 2007. 12-5 June 28, 2007. 12-5 July 26, 2007. 12-5 September 27, 2007. 12-5 October 25, 2007.

ADDRESSES: The meetings are scheduled to be held in the Bureau of Land Management conference room, 432 E. Mill St. Pinedale, WY, 82941.

FOR FURTHER INFORMATION CONTACT: Matt Anderson, BLM/PAWG Liaison, Bureau of Land Management, Pinedale Field Office, 432 E. Mills St., P.O. Box 738, Pinedale, WY, 82941; 307-367-5328.

SUPPLEMENTARY INFORMATION: The Pinedale Anticline Working Group (PAWG) was authorized and established with release of the Record of Decision (ROD) for the Pinedale Anticline Oil and Gas Exploration and Development Project on July 27, 2000. The PAWG advises the BLM on the development and implementation of monitoring plans and adaptive management decisions as development of the Pinedale Anticline Natural Gas Field proceeds for the life of the field.

Dated: November 28, 2006.
William Lanning,
Field Office Manager.

[FR Doc. 06-9606 Filed 12-7-06; 8:45 am]

BILLING CODE 4310-22-M